DEPARTMENT OF ENERGY

Federal Energy Regulatory Commission

Sunshine Act Meeting Notice

October 9, 2008.

The following notice of meeting is published pursuant to section 3(a) of the government in the Sunshine Act (Pub. L. No. 94-409), 5 U.S.C. 552b:

Agency Holding Meeting: Federal Energy Regulatory Commission.

Date And Time: October 16, 2008, 10 a.m.

Place: Room 2C, 888 First Street, NE., Washington, DC 20426.

Status: Open.

Matters To Be Considered: Agenda.

*NOTE—Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's Web site at http://www.ferc.gov using the eLibrary link, or may be examined in the Commission's Public Reference Room.

939th—Meeting
[Regular meeting, October 16, 2008, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM07-19-000, AD07-7-000 | Wholesale Competition in Regions with Organized Electric Markets.
E-2 | RM08-3-000 | Mandatory Reliability Standard for Nuclear Plant Interface Coordination.
E-3 | OA08-45-000, OA08-45-001 | Portland General Electric Company.
E-4 | OA08-52-000, OA08-52-001, OA08-52-002 | New York Independent System Operator, Inc.
E-5 | RR08-6-000, RR07-14-001 | North American Electric Reliability Corporation.
E-6 | ER00-3251-015, ER00-3251-017 | Exelon Generation Company, LLC.
| ER99-754-016, ER99-754-017 | AmerGen Energy Company, LLC.
| ER98-1734-014, ER98-1734-016 | Commonwealth Edison Company.
| ER01-1919-011, ER01-1919-013 | Exelon Energy Company.
| ER01-1147-006, ER01-1147-007 | PEPCO Energy Company.
| ER01-513-021, ER01-513-022 | Exelon West Medway, LLC; Exelon Wyman, LLC; Exelon New Boston, LLC; Exelon Framingham, LLC.
| ER99-2404-011, ER99-2404-012 | Exelon New England Power Marketing, L.P.
E-7 | ER07-476-002 | ISO New England, Inc. and New England Power Pool.
E-8 | ER08-394-003 | Midwest Independent Transmission System Operator, Inc.
E-9 | ER08-556-000, ER06-615-020 | California Independent System Operator Corporation.
E-10 | ER08-1419-000 | Southwest Power Pool, Inc.
E-11 | OMITTED
E-12 | OMITTED
E-13 | OMITTED
E-14 | RC07-4-003 | Direct Energy Services, LLC.
| RC07-6-003 | Sempra Energy Solutions, LLC.
| RC07-7-003 | Strategic Energy, L.L.C.
E-15 | EC08-78-000 | Cinergy Corporation; Duke Energy Ohio, Inc.
| EL08-61-000 | Cinergy Power Investments, Inc.; Generating Facility LLCs.
E-16 | ER08-1178-000 | California Independent System Operator Corporation.
E-17 | ER05-849-002, ER05-849-003, ER05-849-006, ER05-849-007, ER05-849-008 | California Independent System Operator Corporation.
E-18 | ER99-3151-008, ER99-3151-009 | PSEG Energy Resources & Trade LLC.
| ER97-837-007, ER97-837-008 | Public Service Electric and Gas Company.
| ER03-327-002, ER03-327-003 | PSEG Power Connecticut LLC.
| ER08-447-000, ER08-447-001 | PSEG Fossil LLC.
| ER08-448-000, ER08-448-001 | PSEG Nuclear LLC.
E-19 | ER08-1348-000, ER08-1348-001 | Hardee Power Partners Limited.
E-20 | ER01-1403-006, ER01-1403-007, ER01-1403-008 | FirstEnergy Operating Companies.
| ER06-1443-002, ER06-1443-003, ER06-1443-004 | Pennsylvania Power Company.
| ER04-366-005, ER04-366-006 | Jersey Central Power & Light Company.
| ER01-2968-007, ER01-2968-008, ER01-2968-009 | FirstEnergy Solutions Corporation.
| ER01-845-006, ER01-845-007 | FirstEnergy Generation Corporation.
| ER05-1122-004, ER05-1122-005 | FirstEnergy Nuclear Generation Corporation.
| ER08-107-001, ER08-107-002 | FirstEnergy Generation Mansfield Unit 1 Corporation.
E-21 | ER08-637-003 | Midwest Independent Transmission System Operator, Inc.; Transmission Owners of the Midwest Independent Transmission System Operator, Inc.
E-22 | ER08-637-002 | Midwest Independent Transmission System Operator, Inc.; Transmission Owners of the Midwest Independent Transmission System Operator, Inc.
E-23 | ER00-1712-008, ER00-1712-009 | PPL Electric Utilities Corporation.
| ER02-2408-003, ER02-2408-004 | Lower Mount Bethel Energy LLC.
| ER00-744-006, ER00-744-007 | PPL Brunner Island LLC; PPL Holtwood LLC; PPL Martins Creek LLC; PPL Montour LLC; PPL Susquehanna LLC.
| ER02-1327-005, ER02-1327-006 | PPL University Park LLC.
| ER00-1703-003, ER00-1703-004 | PPL EnergyPlus LLC.
| ER02-1749-003, ER02-1749-004 | PPL Edgewood Energy LLC.
| ER02-1747-003, ER02-1747-004 | PPL Shoreham Energy LLC.
| ER99-4503-005, ER99-4503-006 | PPL Great Works LLC.
| ER00-2186-003, ER00-2186-004 | PPL Maine LLC.
| ER01-1559-004, ER01-1559-005 | PPL Wallingford Energy LLC.
E-24 | OA08-71-000 | Xcel Energy Services, Inc.
E-25 | RM08-11-000 | Version Two Facilities Design, Connections and Maintenance Reliability Standards.
E-26 | EL08-74-000 | Central Maine Power Company.
E-27 | ER07-46-001, OA07-7-000, OA07-58-000, ER08-332-000 | NorthWestern Corporation.
E-28 | ER08-412-002 | Commonwealth Edison Company and Exelon Generation Company, LLC.
E-29 | EL08-14-001 | Black Oak Energy, L.L.C., EPIC Merchant Energy, L.P. and SESCO Enterprises, L.L.C. v. PJM Interconnection, L.L.C.
E-30 | OMITTED
E-31 | EL08-75-000 | PacifiCorp.
E-32 | OMITTED
E-33 | ER01-468-006, ER01-468-007, ER01-468-008 | Dominion Energy Marketing, Inc.
| ER00-3621-007, ER00-3621-008, ER00-3621-009 | Dominion Nuclear Connecticut, Inc.
| ER00-3746-009 | Dominion Nuclear Marketing III, L.L.C.
| ER04-318-002, ER04-318-003, ER04-318-004 | Dominion Energy Kewaunee, Inc.
| ER05-36-003, ER05-36-004, ER05-36-005 | Dominion Energy Brayton Point, LLC.
| ER05-37-003, ER05-37-004, ER05-37-005 | Dominion Energy Manchester Street, Inc.
| ER05-34-003, ER05-34-004, ER05-34-005 | Dominion Energy New England, Inc.
| ER05-35-003, ER05-35-004, ER05-35-005 | Dominion Energy Salem Harbor, LLC.
| ER04-249-003, ER04-249-004, ER04-249-005 | Dominion Retail, Inc.
| ER99-1695-008, ER99-1695-009, ER99-1695-010, ER01-2763-001 | Elwood Energy, LLC.
| ER02-23-009, ER02-23-010, ER02-23-011 | Fairless Energy, LLC.
| ER97-30-004, ER97-30-005, ER97-30-006, ER99-1432-009 | Kincaid Generation, LLC.
| ER96-2869-011, ER96-2869-012, ER96-2869-013, ER02-1342-003 | State Line Energy, LLC.
| ER97-3561-004, ER97-3561-005, ER98-3771-001, ER00-1737-009, ER00-1737-010, ER00-1737-011, ER00-2839-005, ER04-834-004 | Virginia Electric and Power Company.
| ER07-1306-003, ER07-1306-004 | NedPower Mt. Storm, LLC.
E-34 | ER08-394-001 | Midwest Independent Transmission System Operator, Inc.
E-35 | ER08-394-002 | Midwest Independent Transmission System Operator, Inc.
E-36 | NJ08-4-000 | East Kentucky Power Cooperative, Inc.
MISCELLANEOUS
M-1 | RM07-1-000 | Standards of Conduct for Transmission Providers.
M-2 | RM08-8-000 | Ex Parte Contracts and Separation of Functions.
M-3 | PL09-1-000 | Compliance with Statutes, Regulations, and Orders.
GAS
G-1 | RP07-655-001 | Columbia Gas Transmission Corporation.
G-2 | OMITTED
HYDRO
H-1 | P-12666-001 | Maine Tidal Energy Company.
H-2 | P-12781-001, P-12781-002, P-12779-001, P-12779-002 | Pacific Gas & Electric Company.
H-3 | P-2111-031, P-2071-036, P-935-082 | PacifiCorp.
H-4 | P-2213-024 | Public Utility District No. 1 of Cowlitz County, Washington.
CERTIFICATES
C-1 | CP08-437-000 | City of Toccoa, Georgia.

Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-24556 Filed 10-14-08; 8:45 am]

BILLING CODE 6717-01-P